DEPARTMENT OF THE INTERIOR

Bureau of Indian Affairs

Notice of Intent To Prepare an Environmental Impact Statement/Environmental Impact Report for the Guidiville Band of Pomo Indians of the Guidiville Rancheria's Proposed Trust Acquisition and Casino/Resort Project, City of Richmond, Contra Costa County, CA

AGENCY: Bureau of Indian Affairs, Interior.

ACTION: Notice.

SUMMARY: This notice advises the public that the Bureau of Indian Affairs (BIA) as lead agency for compliance with the National Environmental Policy Act, and the City of Richmond (City), California, as lead agency for compliance with the California Environmental Quality Act, intend to gather information necessary for preparing an Environmental Impact Statement (EIS)/Environmental Impact Report (EIR) for a proposed 415± acre trust acquisition and casino/resort project to be located within the City of Richmond, Contra Costa County, California. The purpose of the proposed action is to restore the Guidiville land base of the Guidiville Band of Pomo Indians of the Guidiville Rancheria (Tribe) and help provide for the economic development of the tribe. The proposed action would additionally serve to meet the City's requirements under the Base Realignment and Closure Act to use a closed Navy fuel depot for economic development purposes. This notice also announces a public scoping meeting to identify potential issues and alternatives for inclusion in the EIS/EIR.

DATES: Written comments on the scope and implementation of this proposal must arrive by April 15, 2005. The public scoping meeting will be held March 31, 2005, from 7 p.m. to 9 p.m., or until the last public comment is received.

ADDRESSES: You may mail or hand carry written comments to Clay Gregory, Regional Director, Pacific Regional Office, Bureau of Indian Affairs, 2800 Cottage Way, Sacramento, California 95825. The public scoping meeting will be held at the Richmond Memorial Auditorium, 403 Civic Center Plaza, Richmond, California.

FOR FURTHER INFORMATION CONTACT: John Rydzik, (916) 978-6042.

SUPPLEMENTARY INFORMATION: The Tribe proposes that 415± acres of land be taken into trust to restore its terminated tribal land base for its people. The 415± acres encompass nine contiguous parcels in the City of Richmond, more commonly known as the former Point Molate Naval Fuel Depot. The project site is located 2 miles northeast of the Richmond-San Rafael Bridge tollbooth, after exiting at Western Avenue off of Highway 580 while heading west.

The Tribe wishes to use the property for multiple tribal purposes, including economic development and the provision of governmental services. The City wishes to use the property for economic development purposes, promoting employment, enhancing City revenues and improving municipal services. More specifically, the Tribe and City contemplate that the site will be used for the development of gaming and related entertainment, retail and lodging facilities, tribal government facilities, police and fire services, public parks, open space, a ferry terminal, public transportation and possible housing. The eventual size and scope of these facilities may be altered based on information obtained through the EIS/EIR process, but the Tribe and City's current proposal is for approximately 150,000 square feet of gaming floor, 300,000 square feet of retail facilities, 25,000 square feet of convention and entertainment facilities, an approximately 400 room hotel and a second phase 700 room hotel, 29 cottages remodeled into hotel suites or offices, a boutique spa/hotel, a fire station, tribal governmental offices, a tribal cultural center, 220+ acres of open space or submerged lands, 40 acres of public parks, a public trail, the ferry terminal and possible limited housing units. The proposed development would also include parking facilities for approximately 3000 vehicles for patrons and employees.

The proposed action encompasses the various federal approvals which would be required to implement the Tribe's efforts to establish a restored tribal land base, including approval of the Tribe's fee-to-trust application, approval of the Tribe's gaming management contract and approval of the Tribe's request for a reservation proclamation pursuant to a court approved stipulation in Scotts Valley et al v. United States case of September 6, 1991 (NO. C-86-3660-VRW), and implementing the intent and findings of the U.S. Department of Navy EIS/EIR for the base closure of the Point Molate Naval Fuel Depot. The proposed action also includes all the actions and approvals by the City necessary to permit and facilitate the land transfer and development, including approval of a proposed municipal services agreement.

Areas of environmental concern identified so far for analysis in the EIS/EIR include land resources, water resources, coastal zone planning consistency, air quality, living resources, cultural resources, Indian burial remains, socioeconomic conditions, traffic and transportation, land use, public utilities and services, noise, lighting, hazardous materials, environmental justice, soils remediation, visual resources/aesthetics, homeland security issues, Bay Trail construction, historical building restoration, and cumulative impacts. The range of issues and alternatives to be addressed in the EIS/EIR may be expanded based on comments received in response to this notice and at the public scoping meeting.

Public Comment Availability

Comments, including names and addresses of respondents, will be available for public review at the BIA address shown in the ADDRESSES section, during business hours 8 a.m. to 4:30 p.m., Monday through Friday, except holidays. Individual respondents may request confidentiality. If you wish us to withhold your name and/or address from public review or from disclosure under the Freedom of Information Act, you must state this prominently at the beginning of your written comment. Such requests will be honored to the extent allowed by the law. We will not, however, consider anonymous comments. All submissions from organizations or businesses, and from individuals identifying themselves as representatives or officials of organizations or businesses, will be made available for public inspection in their entirety.

Authority

This notice is published in accordance with section 1503.1 of the Council of Environmental Quality Regulations (40 CFR Parts 1500 through 1508) implementing the procedural requirements of the National Environmental Policy Act of 1969, as amended (42 U.S.C. 4371 et seq.), Department of the Interior Manual (516 DM 1-6), and is in the exercise of authority delegated to the Principal Deputy Assistant Secretary—Indian Affairs by 209 DM 8.l.

Dated: February 22, 2005.
Michael D. Olsen,
Acting Principal Deputy Assistant Secretary—Indian Affairs.

[FR Doc. 05-4880 Filed 3-10-05; 8:45 am]

BILLING CODE 4310-W7-P